DEPARTMENT OF TRANSPORTATION

Office of the Secretary

Aviation Proceedings, Agreements Filed the Week Ending November 28, 2008

The following Agreements were filed with the Department of Transportation under the sections 412 and 414 of the Federal Aviation Act, as amended (49 U.S.C. 1383 and 1384) and procedures governing proceedings to enforce these provisions. Answers may be filed within 21 days after the filing of the application.

Docket Number: DOT-OST-2008-0367.

Date Filed: November 25, 2008.

Parties: Members of the International Air Transport Association.

Subject: Composite Passenger Tariff Coordinating Conference, Composite Resolution 002bk, (Memo 1510), Minutes: Composite Meeting of Passenger Tariff, Coordinating Conference, (Memo 1494), Intended effective date: 1 April 2009.

Barabra J. Hairston,
Supervisory Dockets Officer, Alternate Federal Register Liaison.

[FR Doc. E9-18 Filed 1-6-09; 8:45 am]

BILLING CODE 4910-9X-P